DEPARTMENT OF LABOR

Mine Safety and Health Administration

[OMB Control No. 1219-0042]

Proposed Extension of Existing Information, Collection; Representative of Miners; Legal Identity Report; Opening and Closing of Metal and Nonmetal

AGENCY: Mine Safety and Health Administration, Labor.

ACTION: Notice of request for public comments.

SUMMARY: The Department of Labor, as part of its continuing effort to reduce paperwork and respondent burden, conducts a pre-clearance consultation program to provide the general public and Federal agencies with an opportunity to comment on proposed and continuing collections of information in accordance with the Paperwork Reduction Act of 1995 [44 U.S.C. 3506(c)(2)(A)]. This program helps to assure that requested data can be provided in the desired format, reporting burden (time and financial resources) is minimized, collection instruments are clearly understood, and the impact of collection requirements on respondents can be properly assessed. Currently, the Mine Safety and Health Administration (MSHA) is soliciting comments concerning the extension of the information collection for 30 CFR 40.2, 40.3, 40.4, and 40.5, Representative of Miners; 30 CFR 41.20, Legal Identity Report; 30 CFR 56.1000 and 57.1000, Notification of Commencement of Operations and Closing of Mines.

DATES: All comments must be received by midnight Eastern Standard Time on February 15, 2011.

ADDRESSES: Comments must clearly be identified with the rule title and may be submitted to MSHA by any of the following methods:

(1) Electronic mail: zzMSHA-Comments@dol.gov.

(2) Facsimile: (202) 693-9441.

(3) Regular Mail: MSHA, Office of Standards, Regulations, and Variances, 1100 Wilson Blvd., Room 2350, Arlington, VA 22209-3939.

(4) Hand Delivery or Courier: MSHA, Office of Standards, Regulations, and Variances, 1100 Wilson Blvd., Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voicemail), 202-693-9441 (facsimile).

SUPPLEMENTARY INFORMATION:

I. Background

Section 103(h) of the Federal Mine Safety and Health Act of 1977 (Mine Act), as amended, 30 U.S.C. 813, authorizes MSHA to collect information necessary to carry out its duty in protecting the safety and health of miners.

Representative of Miners

Section 103(f) of the Mine Act establishes miners' rights which may be exercised through a representative. Title 30 Code of Federal Regulations (30 CFR) Part 40 contains procedures which a person or organization must follow in order to be identified by the Secretary as a representative of miners. The regulation defines what is meant by “representative of miners,” a term that is not defined in the Mine Act. Section 40.2 requires the representative of miners to file the information specified in § 40.3 with the Mine Safety and Health Administration (MSHA) district manager and the mine operator; § 40.3 requires the following information to be filed:

(1) The name, address, and telephone number of the representative or organization that will serve as representative;

(2) The name and address of the mine operator, and the name, address, and MSHA ID number, if known, of the mine;

(3) A copy of the document evidencing the designation of the representative;

(4) A statement as to whether the representative will serve for all purposes of the Act, or a statement of the limitation of the authority;

(5) The name, address, and telephone number of an alternate;

(6) A statement that all the required information has been filed with the mine operator; and

(7) Certification that all information filed is true and correct followed by the signature of the miners' representative.

Section 40.4 requires that a copy of the notice designating the miners' representative be posted by the mine operator on the mine bulletin board and maintained in current status. Under section 40.5, a representative who wishes to terminate his or her designation must file a written statement with the appropriate MSHA district manager terminating his or her designation.

Legal Identity Report

Section 109(d) of the Mine Act requires each operator of a coal or other mine to file with the Secretary of Labor (Secretary), the name and address of such mine, the name and address of the person who controls or operates the mine, and any revisions in such names and addresses. The legal identity for a mine operator enables the Secretary to properly ascertain the identity of persons and entities charged with violations of mandatory standards. It is also used in the assessment of civil penalties which, by statute, must take into account the size of the business, its economic viability, and its history of previous violations.

Notice of Commencement of Operations and Closing of Mines

Under 30 CFR 56.1000 and 57.1000, operators of metal and nonmetal mines must notify MSHA when the operation of a mine will commence or when a mine is closed. Openings and closings of mines are dictated by the economic strength of the mined commodity, and by weather conditions prevailing at the mine site during various seasons. Section 103(a) of the Mine Act, 30 U.S.C. 813, requires each underground mine to be inspected in its entirety at least four times a year, and each surface mine at least two times per year. Mines which operate only during warmer weather must be scheduled for inspection during the spring, summer, and autumn seasons.

II. Desired Focus of Comments

MSHA is particularly interested in comments that:

• Evaluate whether the collection of information is necessary for the proper performance of the functions of the agency, including whether the information has practical utility;

• Evaluate the accuracy of the agency's estimate of the burden of the collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the information collection request can be obtained by contacting the person listed in the FOR FURTHER INFORMATION CONTACT section of this notice, or view on the Internet by selecting “Rules & Regs”, and then selecting “FedReg.Docs”. On the next screen, select “Paperwork Reduction Act Supporting Statement” to view documents supporting the Federal Register notice.

III. Current Actions

This notice contains the request for an extension of the existing collection of information in 30 CFR 40.2, 40.3, 40.4, and 40.5, Representative of Miners; § 41.20, Notification of Legal Identity; and §§ 56.1000 and 57.1000, Notification of Commencement of Operations and Closing of Mines. MSHA does not intend to publish the results from this information collection and is not seeking approval to either display or not display the expiration date for the OMB approval of this information collection.

There are no certification exceptions identified with this information collection and the collection of this information does not employ statistical methods.

Type of Review: Extension.

Agency: Mine Safety and Health Administration.

OMB Number: 1219-0042.

Frequency: On occasion.

Affected Public: Business or other for-profit.

Cost to Federal Government: $41,023.

Total Burden Respondents: 14,065.

Total Number of Responses: 11,367.

Total Burden Hours: 2,517.5.

Total Hour Burden Cost (operating/maintaining): $67,863.

Comments submitted in response to this notice will be summarized and included in the request for Office of Management and Budget approval of the information collection request; they will also become a matter of public record.

Dated: December 13, 2010.
Patricia W. Silvey,
Director, Office of Standards, Regulations, and Variances.

[FR Doc. 2010-31686 Filed 12-16-10; 8:45 am]

BILLING CODE 4510-43-P